DEPARTMENT OF THE TREASURY

Internal Revenue Service

26 CFR Part 1

Income Taxes; Transfers of Property by U.S. Persons to Foreign Corporations

CFR Correction

In Title 26 of the Code of Federal Regulations, Part 1 (§§ 1.301 to 1.400), revised as of April 1, 2008, on page 306, in § 1.367(a)-6T, in paragraph (e)(5)(ii)(B), reinstate the remainder of the first sentence, following the word “some”, to read as follows: “. . . portion of which was recaptured on the disposition, of the recaptured portions of those overall foreign losses after multiplication by the following fraction:”.

[FR Doc. E9-7203 Filed 3-30-09; 8:45 am]

BILLING CODE 1505-01-D